DEPARTMENT OF HEALTH AND HUMAN SERVICES

Administration for Community Living

Agency Information Collection Activities; Submission for OMB Review; Public Comment Request; Independent Living Services (ILS) Program Performance Report (PPR) 0985-0043

AGENCY: Administration for Community Living, HHS.

ACTION: Notice.

SUMMARY: The Administration for Community Living (ACL) is announcing that the proposed collection of information listed above has been submitted to the Office of Management and Budget (OMB) for review and clearance as required under the Paperwork Reduction Act of 1995. This 30-Day notice collects comments on the information collection requirements related to the Independent Living Services (ILS) Program Performance Report (PPR) 0985-0043.

DATES: Submit written comments on the collection of information by 11:59 p.m. (EST) or postmarked by March 29, 2021.

ADDRESSES: Submit written comments on the collection of information by:

(a) Email to: OIRA_submission@omb.eop.gov, Attn: OMB Desk Officer for ACL;

(b) fax to 202.395.5806, Attn: OMB Desk Officer for ACL; or

(c) by mail to the Office of Information and Regulatory Affairs, OMB, New Executive Office Bldg., 725 17th St. NW, Rm. 10235, Washington, DC 20503, Attn: OMB Desk Officer for ACL.

FOR FURTHER INFORMATION CONTACT: Peter Nye at OILPPRAComments@acl.hhs.gov. Administration for Community Living, Washington, DC 20201, Attention: Peter Nye Phone: (202) 795-7606.

SUPPLEMENTARY INFORMATION: In compliance with 44 U.S.C. 3507, ACL has submitted the following proposed collection of information to OMB for review and clearance.

The Independent Living Services (ILS) program provides financial assistance, through formula grants, to states, the District of Columbia, Puerto Rico, American Samoa, the Commonwealth of the Northern Mariana Islands, Guam, and the US Virgin Islands for expanding, and improving the provision of, independent living (IL) services. The Designated State Entity (DSE) is the agency that, on behalf of the state, receives, accounts for, and disburses funds received under Part B of the Rehabilitation Act of 1973, as amended (the Act). Funds are also made available for the provision of training and technical assistance to Statewide Independent Living Councils (SILCs). The Act permits an annual program performance report (PPR).

This request is for the ILS PPR, which is submitted annually by the SILC and DSE in every state, territory, and commonwealth. ACL uses the ILS PPR to assess grantee compliance with title VII of the Act, with 45 CFR part 1329 of the Code of Federal Regulations, and with applicable provisions of the HHS Regulations at 45 CFR part 75. The ILS PPR serves as the primary basis for ACL's monitoring activities in fulfillment of its responsibilities under sections 706 and 722 of the Act. ACL also uses the PPR to identify training and technical assistance needs for SILCs and centers for independent living.

To view the data collection activity for this information collection request, please visit the ACL public input website: https://www.acl.gov/about-acl/public-input.

Comments in Response to the 60-Day Federal Register Notice

ACL published a 60-day Federal Register Notice in the Federal Register soliciting public comments on this request. The 60-day FRN published on December 17, 2020, Volume 85, pages 81924-81925; ACL received no comments.

Estimated Program Burden

ACL estimates the burden of this collection of information as follows: Fifty-six jurisdictions—specifically, the fifty states, Puerto Rico, the District of Columbia, American Samoa, the Commonwealth of the Northern Mariana Islands, Guam, and the US Virgin Islands—will each complete ILS PPRs annually, and it will take an estimated thirty-five hours per jurisdiction per ILS PPR. Each jurisdiction's SILC and DSE will collaborate to complete the ILS PPR. The fifty-six jurisdictions, combined, will take an estimated 1,960 hours per year to complete ILS PPRs. This burden estimate is based on what DSEs and SILCs have told ACL about how long filling out ILS PPRs took in previous reporting years.

Respondent/data collection activity | Number of respondents | Responses per respondent | Hours per response | Total annual burden hours
SILCs and DSEs | 56 | 1 | 35 | 1,960

Dated: February 19, 2021.
Alison Barkoff,
Acting Administrator and Assistant Secretary for Aging.

[FR Doc. 2021-03864 Filed 2-24-21; 8:45 am]

BILLING CODE 4154-01-P